DEPARTMENT OF THE INTERIOR

Fish and Wildlife Service

50 CFR Part 15

RIN 1018-AG64

Wild Bird Conservation Act; Review of Approved List of Captive-bred Species

AGENCY: Fish and Wildlife Service, Interior.

ACTION: Notice of review.

SUMMARY: We, the U.S. Fish and Wildlife Service (Service), announce a review of all approved captive-bred species listed in the Approved List of Captive-bred Species as provided for in the Wild Bird Conservation Act (WBCA) of 1992. The WBCA requires periodic review of the list. The purpose of the review is to ensure that the list accurately reflects the most current status information for each listed species. We request comments that will provide us with the most current scientific and trade information available on these listed species as well as similar information on species that may warrant consideration for inclusion in the list. If inclusion of a species in the list is not consistent with the best scientific and trade information available at the conclusion of this review, we will change the list accordingly.

DATES: Your comments on this notice of review must be received by July 30, 2001 to receive consideration by us.

ADDRESSES: Submit comments, information, and questions to the Chief, Division of Scientific Authority; Mail Stop: Room 750, Arlington Square; U.S. Fish and Wildlife Service; Washington, DC 20240 (Fax number: 703-358-2276; E-mail address: fw9ia_dsa@fws.gov ). Address express and messenger-delivered mail to the Division of Scientific Authority; 4401 North Fairfax Drive, Room 750; Arlington, Virginia 22203. Comments and materials received will be available for public inspection by appointment, from 8 a.m. to 4 p.m., Monday through Friday, at the Arlington, Virginia, address.

FOR FURTHER INFORMATION CONTACT: Michael D. Kreger, Biologist, Division of Scientific Authority (See ADDRESSES section) (phone: 703-358-1708, fax: 703-358-2276, E-mail: fw9ia_dsa@fws.gov).

SUPPLEMENTARY INFORMATION:

Background

The Wild Bird Conservation Act (WBCA) was enacted on October 23, 1992 to promote the conservation of exotic birds listed in the appendices of the Convention on International Trade in Endangered Species of Wild Fauna and Flora (CITES) by ensuring that all imports of exotic bird species into the United States are biologically sustainable and not detrimental to the species; ensuring that imported birds are not subject to inhumane treatment during capture and transport; and assisting wild bird conservation and management programs in countries of origin.

What Is the Approved List of Captive-Bred Species?

The Approved List of Captive-bred Species under the WBCA is a list of bird species that are included in the appendices of the Convention on International Trade in Endangered Species of Wild Fauna and Flora (CITES), and which exist in international trade only as captive-bred specimens. The listing criteria are described in 50 CFR 15.31-15.32 and the list is presented in 50 CFR 15.33. A WBCA permit is not required if an exotic bird species is listed in the Approved List of Captive-bred Species. We periodically review and update the list. To be included in the list, a species must meet the following criteria:

(a) All specimens of the species known to be in trade (legal or illegal) must be captive bred;

(b) No specimens of the species may be removed from the wild for commercial purposes;

(c) Any importation of the species must not be detrimental to the survival of the species in the wild; and

(d) Adequate enforcement controls must be in place to ensure compliance.

Where Can the Approved List of Captive-Bred Species Be Found?

The Approved Species List of Captive-bred Species can be found in 50 CFR 15.33. The list is also available on the World Wide Web at http://international.fws.gov/global/wbcaacbs.html. This list contains the names of species of captive-bred exotic birds for which importation into the United States is not prohibited by the WBCA.

Why Is This Review Being Conducted?

The procedural rules for listing or removing species from the list can be found in 50 CFR 15.31. The WBCA requires that the Secretary of the Interior conduct a periodic review of each listed species and, after public comment, publish in the Federal Register a list of species of exotic birds that are listed in any CITES Appendix and that are not subject to a prohibition or suspension of importation by the WBCA based on their captive-bred status. The last review was conducted in 1994.

Which Species Are Included on the List?

Although the WBCA also contains provisions for an approved list of wild-caught birds harvested under approved sustainable-use management plans, and also allows imports from qualifying overseas breeding facilities, those lists have not yet been established. The Approved List of Captive-bred Species currently contains the following species that are subject to this review, although other species may be added if information is received to show that they qualify:

Order Falconiiformes:

Buteo buteo—European buzzard

Order Columbiformes:

Columba livia—Rock dove

Order Psittaciformes:

Agapornis personata—Masked lovebird

Agapornis roseicollis—Peach-faced lovebird

Aratinga jandaya—Jendaya conure

Barnardius barnardi—Mallee ringneck parrot

Bolborhynchus lineola—Lineolated parakeet-blue form

Bolborhynchus lineola—Lineolated parakeet-yellow form

Bolborhynchus lineola—Lineolated parakeet-white form

Cyanoramphus auriceps—Yellow-fronted parakeet

Cyanoramphus novaezelandiae—Red-fronted parakeet

Forpus coelestis—Pacific parrotlet-lutino form

Forpus coelestis—Pacific parrotlet-yellow form

Forpus coelestis—Pacific parrotlet-blue form

Forpus coelestis—Pacific parrotlet-cinnamon form

Melopsittacus undulatus—Budgerigar

Neophema bourkii—Bourke's parrot

Neophema chrysostoma—Blue-winged parrot

Neophema elegans—Elegant parrot

Neophema pulchella*—Turquoise parrot

Neophema splendida*—Scarlet-chested parrot

Nymphicus hollandicus—Cockatiel

Platycercus adelaide—Adelaide rosella

Platycercus adscitus—Pale-headed rosella

Platycercus elegans—Crimson rosella

Platycercus eximius—Eastern rosella

Platycercus icterotis—Western (stanley) rosella

Platycercus venustus—Northern rosella

Polytelis alexandrae—Princess parrot

Polytelis anthopeplus—Regent parrot

Polytelis swainsonii—Superb parrot

Psephotus chrysopterygius*—Golden-shouldered parakeet

Psephotus haematonotus—Red-rumped parakeet

Psephotus varius—Mulga parakeet

Psittacula eupatria—Alexandrine parakeet-blue form

Psittacula eupatria—Alexandrine parakeet-lutino form

Psittacula krameri manillensis—Indian ringneck parakeet

Purpureicephalus spurius—Red-capped parrot

Trichoglossus chlorolepidotus—Scaly-breasted lorikeet

Order Passeriformes:

Aegintha temporalis—Red-browed finch

Aidemosyne modesta—Cherry finch

Chloebia gouldiae—Gouldian finch

Emblema guttata—Diamond sparrow

Emblema picta—Painted finch

Lonchura castaneothorax—Chestnut-breasted finch

Lonchura domestica—Society (Bengalese) finch

Lonchura pectoralis—Pictorella finch

Neochmia ruficauda—Star finch

Poephila acuticauda—Long-tailed grassfinch

Poephila bichenovii—Double-barred finch

Poephila cincta—Parson finch

Poephila guttata—Zebra finch

Poephila personata—Masked finch

Serinus canaria—Common canary

Note: Species with an asterisk (*) are protected by the Endangered Species Act and require a permit under that law for importation. The golden-shouldered parakeet is also listed in CITES Appendix I and is subject to the provisions of CITES, including a determination of whether import is for primarily commercial purposes.

Forty-eight species are currently included in the list. Most species are Psittaciformes, which includes parrots, macaws, budgerigars, parakeets, lovebirds, cockatoos, and similar species. Of those, color mutations, such as the blue form of the Pacific parrotlet, are included since it is likely that these are captive-bred birds and would not have been removed from the wild. The list was established on January 24, 1996 (61 FR 2093) and has not been amended since then. Since the list was established, however, certain factors (e.g., changes in national legislation in range countries) may have altered patterns in the exotic bird trade, and captive breeding of some species may have improved or declined. We have received comments from aviculturists requesting that some captive-bred species, including additional color mutations, be added to the list, especially if the range country now strictly prohibits exportation of the species. We intend to examine these comments and any additional information in response to this Notice to determine the current status of species listed, to determine whether they should remain on the list, and to determine whether additional species should also be included in the list.

How Will We Determine Whether a Species Should Be on the Approved List?

We will consider the comments received in response to this Notice, as well as other relevant information given to us on captive breeding and trade in exotic birds. We will then evaluate the species against the criteria listed above. A species will be added to the list if it meets all of the criteria.

What Could Happen as a Result of This Review?

If anyone provides us with substantial new information for one or more species in the table above, or if we find, as part of our review, any other credible new information on these species, we could either remove or add a species to the list.

What Will Happen if no New Information Is Submitted on any of the Listed Species?

No changes will be made to the list as a result of this review unless substantial information is received. However, we will initiate periodic reviews in the future, as resources allow and when new information suggests that a review may be warranted.

Request for Information

We request comments on this Notice of Review from any foreign government or agency, the public, other Federal, State, and local governmental agencies, the scientific community, industry, or any other interested party. The comments should provide as much scientific and trade information as possible (literature citations, etc.). Submissions with detailed information are much more helpful than those that merely advocate or state a position, but that contain no biological or trade information that would contribute to determining whether species should be included in the list. In particular, we are seeking information that indicates a need for a change in the status of any of the listed or unlisted species based on:

1. Status of captive breeding;

2. Whether there is legal trade from the wild;

3. Whether there is illegal trade from the wild and how much.

We are also seeking taxonomic and nomenclatural changes as well as of occurrences of any new color mutations of the taxa as well as suggestions for appropriate common names.

If possible, this information should be supported by documentation such as maps, breeding records, bibliographic references, or copies of any pertinent publications, reports, or letters by knowledgeable sources.

What if We Receive Extensive Substantive Information on a Large Number of Species?

We will evaluate information received and information in our files and determine: (1) whether or not any currently listed species should be re-evaluated; and (2) whether or not the listing of any currently unlisted species should be considered. Due to limited resources available for this effort, our highest priority will be for those species whose conservation status in the wild would most benefit from a change in their listing status under the WBCA.

Authority: This document is published under the authority of the Wild Bird Conservation Act (16 U.S.C. 4901-4916 et seq.).

Dated: May 15, 2001.
Marshall P. Jones, Jr.,
Acting Director.

[FR Doc. 01-13348 Filed 5-25-01; 8:45 am]

BILLING CODE 4310-55-U